DEPARTMENT OF TRANSPORTATION

Federal Aviation Administration

14 CFR Part 136

[Docket No. FAA-1998-4521; Amendment No. 136-1]

RIN 2120-AF07

National Air Tour Safety Standards; Correction

AGENCY: Federal Aviation Administration (FAA), DOT.

ACTION: Final rule; correcting amendments.

SUMMARY: The FAA is correcting references in its Commercial Air Tours and National Parks Air Tour Management regulations to conform to amendments made by the National Air Tour Safety Standards final rule published on February 13, 2007 (72 FR 6884). In addition, the FAA is removing a sentence from the preamble that referred to aircraft certificated as “Experimental Category” and clarifying the applicability of the rule to the “Young Eagles” program.

DATES: Effective June 7, 2007.

FOR FURTHER INFORMATION CONTACT: Alberta Brown, Air Transportation Division, AFS-200, Federal Aviation Administration, 800 Independence Avenue, SW., Washington, DC 20591; telephone: (202) 267-8166; e-mail: alberta.brown@faa.gov.

For legal information, contact: Bruce Glendening, Operations Law Branch, Federal Aviation Administration, 800 Independence Avenue, SW., Washington, DC 20591; telephone: (202) 267-8011; facsimile: (202) 267-7971; e-mail: bruce.glendening@faa.gov.

SUPPLEMENTARY INFORMATION:

Background

A. Correction to Section References in Part 136 Subpart B

On February 13, 2007, the FAA published the “National Air Tour Safety Standards” final rule (72 FR 6884) in which we designated the existing sections in part 136, consisting of §§ 136.1 through 136.11, as subpart B, consisting of §§ 136.31 through 136.49. The FAA inadvertently did not update the section references in the text of those sections to reflect the new numbering. This document corrects that oversight.

B. Comments Against Part 135 Certification

In the preamble to the February 13, 2007, final rule, on pages 6891-6892, the FAA discussed comments that opposed our proposal to require commercial air tour operators to conduct their operations under part 135. We explained the regulatory basis for our final decision and, in the second full paragraph of column 1 on page 6892, we described the regulations pertaining to the carriage of passengers under different categories of airworthiness certification. Upon review, we have determined that the first sentence of that paragraph was correct; however, the second sentence was not correct because we inadvertently omitted the words “for compensation or hire” when describing operations carrying passengers in aircraft with an “Experimental Category” airworthiness certificate. We therefore correct the preamble of the final rule on page 6892, column 1, the second full paragraph, by removing the sentence that reads, “An ‘Experimental Category’ certificate does not allow passengers at all.”

C. EAA Young Eagles Program

During development of the “National Air Tour Safety Standards” final rule, we believed that the Experimental Aircraft Association (EAA) used its FAA-issued exemptions for all flights conducted under its Young Eagles program. Since publication of the final rule, however, we have learned that EAA uses its exemptions only for those few Young Eagles flights that are flown for compensation or hire. We therefore clarify that the final rule applies to only Young Eagles flights that are flown for compensation or hire, but the rule does not apply to other Young Eagles flights.

List of Subjects in 14 CFR Part 136

Air transportation, Aircraft, Airplanes, Air tours, Air safety, Aviation safety, Commercial air tours, Helicopters, National Parks, Recreation and recreation areas, Reporting and recordkeeping requirements.

Accordingly, 14 CFR part 136 is corrected by making the following correcting amendments:

PART 136—COMMERCIAL AIR TOURS AND NATIONAL PARKS AIR TOUR MANAGEMENT

1. The authority citation for part 136 continues to read as follows:

Authority: 49 U.S.C. 106(g), 40113, 40119, 44101, 44701-44702, 44705, 44709-44711, 44713, 44716-44717, 44722, 44901, 44903-44904, 44912, 46105.

§ 136.33 [Amended]

2. Amend § 136.33—

A. In paragraph (d)(1)(iii) by removing the reference “§ 136.5” and adding in its place the reference “§ 136.35.”

B. In paragraph (d)(3) by removing the reference “§ 136.5” and adding in its place the reference “§ 136.35.”

§ 136.37 [Amended]

3. Amend § 136.37—

A. In paragraph (d) by removing the reference “§ 136.9” and adding in its place the reference “§ 136.39.”

B. In paragraph (h) by removing the reference “§ 136.11” and adding in its place the reference “§ 136.41.”

Issued in Washington, DC, on June 1, 2007.
Pamela Hamilton-Powell,
Director, Office of Rulemaking.

[FR Doc. E7-10972 Filed 6-6-07; 8:45 am]

BILLING CODE 4910-13-P